DEPARTMENT OF COMMERCE

International Trade Administration

[A-570-502]

Iron Construction Castings from the People's Republic of China: Rescission of Antidumping Duty Administrative Review

AGENCY: Import Administration, International Trade Administration, U.S. Department of Commerce.

SUMMARY: In response to a timely request from an interested party, the Department of Commerce (the Department) initiated an administrative review of the antidumping duty order on iron construction castings (castings) from the People's Republic of China (PRC). See Initiation of Antidumping and Countervailing Duty Administrative Reviews and Request for Revocation in Part, 67 FR 42573 (June 25, 2002). This review covers the period May 1, 2001 through April 30, 2002. Because the company for which the review was requested and initiated was not an exporter of the subject merchandise to the United States, the Department is rescinding this review in accordance with 19 CFR 351.213(d).

EFFECTIVE DATE: June 3, 2003.

FOR FURTHER INFORMATION CONTACT: Jacqueline Arrowsmith or Maureen Flannery, AD/CVD Enforcement Group III, Office 7, Import Administration, International Trade Administration, U.S. Department of Commerce, 14th Street and Constitution Avenue, N.W., Washington D.C. 20230; telephone (202) 482-5255 or (202) 482-3020, respectively.

SUPPLEMENTARY INFORMATION:

Background

The Department published in the Federal Register an antidumping duty order on castings from the PRC on May 9, 1986. See Antidumping Duty Order: Iron Construction Castings from the People's Republic of China, 51 FR 17222 (May 9, 1986). On May 30, 2002, the Department received a timely request from Powin Corporation (Powin), an importer of subject merchandise, for an administrative review of Mucun Foundry of Fangzi District (Mucun Foundry). The Department published its initiation of the administrative review for Mucun Foundry on June 25, 2002. See Initiation of Antidumping and Countervailing Duty Administrative Reviews and Request for Revocation in Part, 67 FR 42573 (June 25, 2002) (Initiation Notice).

On August 26, 2002, the Department issued its antidumping duty questionnaire, and on October 11, 2002, pursuant to Powin's request, the Department extended the deadlines for the questionnaire responses to October 18, 2002, for Section A, and October 25, 2002, for Sections C and D. We received, in proper form, Section A responses on October 18, 2002, and Section C and D responses on October 25, 2002.

Pursuant to section 751(a)(3)(A) of the Tariff Act of 1930, as amended (the Act), the Department may extend the deadline for completion of the preliminary results of an administrative review if it determines that it is not practicable to complete the preliminary results of a review within the statutory time limit of 245 days. On December 3, 2002, in accordance with the Act, the Department extended the time limit for completion of the preliminary results of this antidumping duty administrative review until no later than May 30, 2003. See Notice of Extension of Time Limit for Preliminary Results of the Antidumping Duty Administrative Review: Certain Iron Construction Castings From the People's Republic of China, 67 FR 75845 (December 10, 2002).

Rescission of Antidumping Duty Administrative Review of Castings

Based on our review of questionnaire responses as well as information from the U.S. Bureau of Customs and Border Protection, the Department found that the subject merchandise had not been exported to the United States by Mucun Foundry, the only company for which the review was requested and initiated. On January 30, 2003, we issued a letter and memorandum to all interested parties in this review stating our intention to rescind this administrative review because the company for which the review was requested did not export to the United States during the period of review (POR). See Memorandum from Javier Barrientos and Julio A. Fernandez through Sally C. Gannon to Barbara E. Tillman: Iron Construction Castings from the People's Republic of China: Intent to Rescind Antidumping Duty Administrative Review (January 30, 2003). We invited all interested parties to comment on our stated intent to rescind the review.

On February 13, 2003, Powin submitted comments objecting to a rescission, and on February 25, 2003 the petitioners¹ submitted comments supporting a rescission. We have considered Powin's and petitioners' comments and have reached a final determination to rescind this administrative review. See Memorandum from Matthew Renkey, Case Analyst, through Maureen Flannery, Program Manager, Office of AD/CVD Enforcement VII, to Barbara Tillman, Director, Office of AD/CVD Enforcement VII: Iron Construction Castings from the People's Republic of China: Rescission of the 2001-2002 Administrative Review, dated May 27, 2003 (Rescission Memo), which discusses in full the comments received.

¹ Allegheny Foundry Co.; Deeter Foundry Inc.; East Jordan Iron Works, Inc.; LeBaron Foundry, Inc.; Municipal Castings, Inc.; Neenah Foundry Co.; Tyler Pipe Company; and U.S. Foundry Manufacturing Co.

Pursuant to our regulations, the Department will rescind an administrative review if the Department determines that “during the period covered by the review, there were no entries, exports, or sales of the subject merchandise, as the case may be.” See 19 CFR 351.213(d)(3). Given that Mucun Foundry was not the exporter, but only a producer, the Department has determined that this administrative review should be rescinded as Mucun Foundry did not have any entries, exports or sales of subject merchandise during the current POR. See Certain Cased Pencils From the People's Republic of China: Preliminary Results and Rescission in Part of Antidumping Duty Administrative Review, 66 FR 1638 (January 9, 2001). See also Laizhou City Guangming Pencil-Making Co. Ltd., Et Al., v. United States, No. 02-151 (Ct. Int'l Trade Dec. 18, 2002). Therefore, the Department has determined that it is reasonable to rescind this administrative review of castings for the period May 1, 2001 through April 30, 2002. The Department will issue appropriate assessment instructions to the U.S. Bureau of Customs and Border Protection.

Notification to Importers

This notice serves as a final reminder to importers of their responsibility under section 351.402(f) of the Department's regulations to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with 19 CFR 351.305(a)(3). Timely written notification of the return/destruction of APO materials or conversion to judicial protective order is hereby requested. Failure to comply with the regulations and the terms of an APO is a sanctionable violation.

This determination and notice are issued and published in accordance with 19 CFR § 351.213(d)(4) and sections 751(a)(1) and 777(i)(1) of the Act.

Dated: May 27, 2003.
Joseph A. Spetrini,
Acting Assistant Secretary for Import Administration.

[FR Doc. 03-13880 Filed 6-2-03; 8:45 am]

BILLING CODE 3510-DS-S